ENVIRONMENTAL PROTECTION AGENCY

40 CFR Part 131

[EPA-HQ-OW-2010-0606; FRL-9903-54-OW]

Extension of Comment Period for the Water Quality Standards Regulatory Clarifications Proposed Rule

AGENCY: Environmental Protection Agency (EPA).

ACTION: Proposed rule; extension of comment period.

SUMMARY: The Environmental Protection Agency (EPA) is extending the comment period for the proposed rule “Water Quality Standards Regulatory Clarifications”. EPA is extending the comment period in response to stakeholder requests for a 30-day extension.

DATES: Comments must be received on or before January 2, 2014. The comment period was originally scheduled to end on December 3, 2013.

ADDRESSES: Submit your comments, identified by Docket identification (ID) No. EPA-HQ-OW-2010-0606, by one of the following methods:

• Federal eRulemaking Portal: http://www.regulations.gov. Follow the online instructions for submitting comments.

• Email: ow-docket@epa.gov.

• Mail: Water Docket, Environmental Protection Agency, Mail Code 2822T, 1200 Pennsylvania Ave. NW., Washington, DC 20460. Attention: Docket ID No. EPA-HQ-OW-2010-0606.

• Hand Delivery: EPA Docket Center, EPA West Room 3334, 1301 Constitution Ave. NW., Washington, DC 20004, Attention: Docket ID No. EPA-HQ-OW-2010-0606. Such deliveries are only accepted during the Docket Center's normal hours of operation. Special arrangements should be made for deliveries of boxed information by calling 202-566-2426.

Instructions: Direct your comments to Docket ID No. EPA-HQ-OW-2010-0606. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disc you submit. If the EPA cannot read your comment due to technical difficulties and cannot contact you for clarification, the EPA may not be able to consider your comment. Electronic files should avoid the use of special characters, any form of encryption, and be free of any defects or viruses. For additional information about the EPA's public docket visit the Docket Center homepage at http://www.epa.gov/epahome/dockets.htm.

Docket: All documents in the docket are listed in the http://www.regulations.gov index. Although listed in the index, some information is not publicly available (e.g., CBI or other information whose disclosure is restricted by statute). Certain other materials, such as copyrighted material, will be publicly available only in hard copy. Publicly available docket materials are available either electronically in http://www.regulations.gov or in hard copy at the Office of Water Docket Center, EPA/DC, EPA West, Room 3334, 1301 Constitution Ave. NW., Washington, DC. The Public Reading Room is open from 8:30 a.m. to 4:30 p.m., Monday through Friday, excluding legal holidays. The telephone number for the Public Reading Room is (202) 566-1744; the telephone number for the Office of Water Docket Center is (202) 566-2426.

FOR FURTHER INFORMATION CONTACT: Janita Aguirre, EPA Headquarters, Office of Water, Office of Science and Technology, at 202-566-1860 or email address: WQSRegulatoryClarifications@epa.gov.

SUPPLEMENTARY INFORMATION: On September 4, 2013, EPA published the proposed rule “Water Quality Standards Regulatory Clarifications” in the Federal Register (78 FR 54517). In the proposed rulemaking, EPA is proposing changes to the federal water quality standards (WQS) regulation at 40 CFR Part 131 which helps implement the Clean Water Act in order to improve effectiveness in restoring and maintaining the chemical, physical, and biological integrity of the nation's waters. The proposed rule addresses the following key program areas: Administrator's determinations that new or revised WQS are necessary, designated uses, triennial reviews, antidegradation, variances to WQS, and compliance schedule authorizing provisions. Once final, the proposed rule will lead to improved water quality standard development, implementation and compliance as well as improving the ability of water systems to adapt and respond to the impacts of climate change.

The original comment deadline was December 3, 2013. This action extends the comment period for 30 days. Written comments must now be received by the January 2, 2014.

Dated: November 22, 2013.
Nancy K. Stoner,
Acting Assistant Administrator, Office of Water.

[FR Doc. 2013-28522 Filed 11-26-13; 8:45 am]

BILLING CODE 6560-50-P